DEPARTMENT OF TRANSPORTATION

Federal Aviation Administration

Notice of Intent To Prepare a Tiered Environmental Impact Statement (EIS) and To Conduct Environmental Scoping for Site Approval and the Proposed Acquisition of Land by the State of Illinois for a Supplemental Air Carrier Airport To Serve Northeast Illinois/Northwest Indiana Metropolitan Area

AGENCY: Federal Aviation Administration, DOT.

ACTION: Notice to hold a public scoping meeting.

SUMMARY: The Federal Aviation Administration (FAA) is issuing this notice to advise the public that a tiered Environmental Impact Statement will be prepared to consider the location and proposed acquisition of land by the state of Illinois for a potential future supplemental air carrier airport to serve the northeast Illinois and northwest Indiana metropolitan area. This scope is significantly different from earlier scoping completed in May and September of 1990, January of 1995, and April 1997 that considered development of aviation facilities in addition to site approval and land acquisition. New public scoping will be held in order that all significant issues related to the revised proposed actions are identified.

FOR FURTHER INFORMATION CONTACT: Denis R. Rewerts, Airport Capacity Officer, Federal Aviation Administration, Chicago Airports District Office, Room 320, 2300 East Devon Avenue, Des Plaines, Illinois 60018. Mr. Rewerts can be contacted at (847) 294-7195 (voice), (847) 294-7046 (facsimile).

SUPPLEMENTARY INFORMATION: At the request of the State of Illinois, Department of Transportation, the FAA is preparing a tiered Environmental Impact Statement. The first tier (tier 1) will address FAA site approval for a potential future supplemental air carrier airport. No use of Federal funds or Airport Layout Plan approval is contemplated under this action. A subsequent tier, or tiers, may be prepared and considered at a later date to assess the potential impacts resulting from development of aviation facilities, as these issues become ripe for decision. All reasonable alternatives will be considered including the no-action option.

Copies of a scoping document with additional detail can be obtained by contacting the FAA informational contact person identified above. Federal, State and local agencies and other interested parties are invited to make comments and suggestions to ensure that the full range of issues related to these proposed actions are addressed and all significant issues identified. The FAA informational contact person identified above should receive these comments and suggestions by September 14, 2000.

PUBLIC SCOPING MEETING: To facilitate receipt of comments, two public scoping meetings will be held on August 30, 2000 in Engbretson Hall (Auditorium) at Governors State University, University Park, Illinois. The first meeting will be held between 10:00 AM and 12:00 PM for Federal, State and local agencies. The second meeting will be held from 2:00 PM to 7:00 PM for other interested parties.

Issued in Des Plaines, Illinois on July 21, 2000.
Philip M. Smithmeyer,
Manager, Chicago Airports District Office FAA, Great Lakes Region.

[FR Doc. 00-19039 Filed 7-27-00; 8:45 am]

BILLING CODE 4910-13-M